COMMISSION ON CIVIL RIGHTS

Agenda and Notice of Public Meeting of the Vermont Advisory Committee

Notice is hereby given, pursuant to the provisions of the rules and regulations of the U.S. Commission on Civil Rights, that a meeting of the Vermont Committee to the Commission will convene at 1 p.m. and adjourn at 5 p.m. on Wednesday, April 9, 2003, at the State House, 115 State Street, Montpelier, Vermont 05602. The Advisory Committee will hold a town hall meeting with public agency officials, educators, and community leaders to discuss efforts to address racism and harassment of minorities in Vermont public schools and communities.

Persons desiring additional information, or planning a presentation to the Committee, should contact Marc Pentino, of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated in Washington, DC, March 19, 2003.
Dawn R. Sweet,
Acting Chief, Regional Programs Coordination Unit.

[FR Doc. 03-8333 Filed 4-4-03; 8:45 am]

BILLING CODE 6335-01-P